DEPARTMENT OF HOUSING AND URBAN DEVELOPMENT

[Docket No. FR-6184-N-01]

The Performance Review Board

AGENCY: Office of the Secretary, HUD.

ACTION: Notice of appointments.

SUMMARY: The Department of Housing and Urban Development announces the establishment of the Departmental Performance Review Board (PRB) to make recommendations to the appointing authority on the performance and compensation of its Senior Executive Service (SES), Senior Level (SL) and Senior Technical (ST) professionals.

FOR FURTHER INFORMATION CONTACT: Persons desiring any further information about the PRB and its members may contact Heather R. Dieguez, Acting Director, Office of Executive Resources, Department of Housing and Urban Development, Washington, DC 20410. Telephone (202) 402-3380. (This is not a toll-free number).

SUPPLEMENTARY INFORMATION: The following persons may be named to serve on the PRB from 2019 to 2021. They are listed by type of appointment, name, and official title.

NAME | OFFICIAL TITLE
CAREER SES
AMMON, MATTHEW E | DIRECTOR, OFFICE OF HEALTHY HOMES AND LEAD HAZARD CONTROL.
BALLARD, DANIEL L | DEPUTY ASSISTANT CFO FOR BUDGET.
BASTARACHE, DANIELLE L | DAS, FOR PUBLIC HOUSING AND VOUCHER PROG.
BENISON, JOHN P | DIRECTOR, OFFICE OF DEPARTMENTAL EEO.
BETTS, SUSAN A | DEPUTY A/S FOR FINANCE AND BUDGET.
BLOM, DOMINIQUE G | GENERAL DEPUTY A/S FOR PIH.
BOHLING, GAYLE E | DEPUTY GENERAL COUNSEL OPERATIONS.
BOYD, JANICE L | DAS, FOR BUSINESS MGMT & ADMIN/CMO.
BREGON, NELSON R | CHIEF ADMINISTRATIVE OFFICER.
BROWN, AMY L | ASSOCIATE GENERAL CONSEL FOR INSURED HSG.
BROWN, JEREON M | GENERAL DEPUTY ASSISTANT SECRETARY FOR PUBLIC AFFAIRS.
BRYON, JEMINE A | DAS FOR SPECIAL NEEDS PROGRAMS.
BURKE, PATRICIA M | DIR, OFFICE OF MULTIFAMILY PRODUCTION.
CLEMMENSEN, CRAIG T | DIRECTOR, DEPARTMENTAL ENFORCEMENT CTR.
COOKE JR, KEVIN R | PRINCIPAL DEPUTY, CIO.
COOPER-JONES, BARBARA M | SR VP, OFC OF ENTERPRISE DATA TECH SOLUTIONS.
CORSIGLIA, NANCY E | DEPUTY CIO FOR BUSINESS & IT RESOURCES.
CUMMINGS, ANTHONY W | ASSOCIATE GENERAL COUNSEL FOR ETHICS AND PERSONNEL LAW.
DAUGHERTY, JOHN T | SENIOR VICE PRESIDENT, OFFICE OF SECURITIES OPERATIONS.
DAVIS, THOMAS R | DIR, OFFICE OF RECAPITALIZATION.
DRAYNE, MICHAEL R | SENIOR VICE PRESIDENT STRATEGIC PLANNING.
ENZEL, DAVID H | DAS FOR ENFORCEMENT AND PROGRAMS.
FERRY, SHYLON C | DIRECTOR FOR BUDGET AND FINANCIAL MGMT.
FLEMING SCOTT, JIMMY | DEPUTY CHIEF PROCUREMENT OFFICER.
FLOM, RONALD C | CHIEF PROCUREMENT OFFICER.
FORERO, JAIME E | DAS FOR OPERATIONS AND MANAGEMENT.
FORRESTER, ALTHEA M | ASSOCIATE GEN COUNSEL FOR ASST HSG & COMMUNITY DEV.
FRECHETTE, HEIDI J | D/A SECRETARY FOR NATIVE AMERICAN PROGRAMS.
GAITHER, FELICIA R | DAS, FOR FIELD OPERATIONS.
GERECKE, SARAH L | DAS, FOR OFFICE OF HOUSING COUNSELING.
GETCHIS, JOHN F | SR. V-PRESIDENT OFC OF CAPITAL MARKETS.
GOLRICK, JANET A | SENIOR ADVISOR.
GREENE, BRYAN | ASSOCIATE DEPUTY ASSISTANT SECRETARY FHEO.
HADLEY, JOY L | DIR, OFFICE OF LENDER ACTIVITIES & PROGRAM COMPLIANCE.
HALLIDAY, TOBIAS | DIR, OFC OF ASSET MGMT & PORTFOLIO OVERSIGHT.
HIMES, IVERY W | DIR, OFC OF SINGLE-FAMILY ASSET MGT.
HUNGATE, JOSEPH I | ASSISTANT CFO FOR SYSTEMS.
JOHNSON, CALVIN C | DAS, FOR THE OFFICE OF RESEARCH, EVALUATION & MONITORING.
KEITH, GREGORY A | SENIOR VICE PRESIDENT AND CHIEF RISK OFFICER.
KORNEGAY, EMILY M | ASST CFO FOR BUDGET.
KUBACKI, MELAJO K | ASSISTANT CHIEF FINANCIAL OFFICER FOR FINANCIAL MANAGEMENT.
LITTLE, JEFFREY D | ASSOCIATE DAS, FOR MULTIFAMLY HSNG PROGRAMS.
LOFINMAKIN, ADETOKUNBO | SENIOR VICE PRESIDENT & CHIEF FINANCIAL.
LUKOFF, ROGER M | DAS, FOR HEALTHCARE PROGRAMS.
MATTHEWS, MONICA M P | CHIEF HUMAN CAPITAL OFFICER.
MICHALSKI, LORI A | DEPUTY ASSISTANT SECRETARY FOR OPERATIONS.
MILLS, KRISTA | DAS, OFC OF POLICY, LEGISLATIVE INITIATIVES.
MORRIS, VANCE T | ASSOCIATE GENERAL DAS, FOR HOUSING.
MULDERIG, ROBERT E | ASSOCIATE DAS, FOR SINGLE-FAMILY HOUSING.
NARODE, DANA M | ASSOCIATE GEN COUNSEL FOR PROGRAM ENFORCEMENT.
NIGAM, NITA | ASSISTANT CFO FOR ACCOUNTING.
PAO, JEAN LIN | DIRECTOR, OFFICE OF SMALL AND DISADVANTAGED BUSINESS UTILIZATION.
POTTS, MILLICENT B | DEPUTY GENERAL COUNSEL FOR HOUSING.
PRESTON, TAWANNA | SR VP OF ADMIN & SR. ADV TO OFC OF THE PRESIDENT.
PURIFOY, FELICIA A | DIRECTOR, OFFICE OF HUMAN CAPITAL SERVICES.
RICHARDSON, TODD M | GDAS FOR POLICY DEVELOPMENT & RESEARCH.
SARDONE, VIRGINIA M | DIRECTOR OFFICE OF AFFORDABLE HOUSING.
SARGEANT, JUAN C | DEPUTY CIO FOR INFRASTRUCTURE & OPERAT.
SAUNDERS, ELISSA O | DIR, OFC OF SINGLE-FAMILY PROGRAMS DEV.
SCOTT, PAUL A | BUSINESS CHANGE & INTEGRATION OFFICER.
SIMPSON, KEVIN M | ASSOCIATE GEN COUNSEL FOR FINANCE AND ADMINISTRATIVE LAW.
SMYTH, TIMOTHY M | ASSOCIATE ASST DEPUTY SECRETARY FOR FPM.
TOMCHICK, GEORGE J | DEPUTY CHIEF FINANCIAL OFFICER.
USOWSKI, KURT G | DEP A/S FOR ECONOMIC AFFAIRS.
VARGAS, DAVID A | ASSOCIATE DEP ASST SEC FOR REAL ESTATE ASSMT CTR.
WORDEN, JEANINE M | ASSOCIATE GEN COUNSEL FOR FAIR HOUSING.
WRIGHT, SHEILA D | CHIEF LEARNING OFFICER.
NON-CAREER SES
BAKER JR, JOHN C | DEPUTY CHIEF OF STAFF.
BECKER, KEITH N | DAS, FOR RISK MANAGEMENT AND REGULATORY AFFAIRS.
BOBBITT, JOHN N | DEPUTY ASSISTANT SECRETARY FOR OPERATIONS.
BOWES, ROBERT B | SENIOR ADVISOR.
BRAVACOS, JOHN G | GDAS FOR COMMUNITY PLANNING & DEVELOPMENT.
BROWN, CHRISTINA M | DIRECTOR OF REGULATORY REFORM.
BUNTYN, JAMES A | SENIOR ADVISOR (CYBER SECURITY AND RISK MANAGEMENT).
CHOW, DAVID C | CHIEF INFORMATION OFFICER.
CLEVELAND LEGGETT, DENISE | REGIONAL ADMINISTRATOR (ATLANTA).
COWAN JR, CHARLES D | PRINCIPAL DAS FOR ADMINISTRATION.
DEFELICE, JOSEPH J | REGIONAL ADMINISTRATOR (PHILADELPHIA).
DEMARZO, BENJAMIN E | ASST DEPUTY SECRETARY FOR FPM.
GORMLEY, JOSEPH M | CHIEF OF STAFF TO THE DEPUTY SECRETARY.
GRASSI III, JOSEPH J | PRINCIPAL DEPUTY GENERAL COUNSEL.
HUFF, DANIEL | GDAS FOR FHEO.
HUGHES, ANDREW D | CHIEF OF STAFF.
KASPER, MAREN M | EXECUTIVE VICE PRESIDENT (POLICY).
KELLEY, MICHAEL J | GDAS FOR CONG & INTERGOVERNMENTAL RELATIONS.
PATTON, LYNNE M | REGIONAL ADMINISTRATOR (NEW YORK).
PETTY, TIMOTHY J | DEPUTY GENERAL COUNSEL FOR ENFORCEMENT.
ROGET, GISELE G | DAS FOR SINGLE-FAMILY.
SEATS, CHRISTOPHER L | DAS FOR MULTIFAMILY HOUSING.
TURNER, ERIC S | SENIOR ADVISOR.
WOLL JR, DAVID C | PRINCIPAL DAS, FOR CPD.
SES LIMITED
ALLEN, MICHAEL T | SENIOR ADVISOR FOR TRANSFORMATION.
GARVIN, JOHN L | SR ADVISOR FOR ORGANIZATION, TRANSFORMATION AND MODERNIZATION.
OPPENHEIMER, DROR | SR ADVISOR FOR RESOURCE MANAGEMENT.

Dated: October 1, 2019.
Benjamin S. Carson, Sr.,
Secretary.

[FR Doc. 2019-21838 Filed 10-4-19; 8:45 am]

BILLING CODE 4210-67-P